Title 3—

The President

Proclamation 9171 of September 19, 2014

National Employer Support of the Guard and Reserve Week, 2014

By the President of the United States of America

A Proclamation

On the eve of our Nation's birth, a courageous people stood up to the tyranny of an empire and declared their independence. They proclaimed the values of equality and justice and fought a revolution to secure them. In 13 colonies, farmers and tradesmen laid their lives on the line, picked up arms, and answered their new country's call to defend freedom.

Throughout our history, patriotic Americans have always stepped up in our Nation's time of need. It is in this spirit that our National Guard and Reserve members carry forward a proud legacy of service and sacrifice. This week, we honor all those who stand ready to defend our way of life and the families, employers, and communities who support them.

More than 1 million citizen-Soldiers, Sailors, Airmen, Marines, and Coast Guardsmen serve our country in the National Guard and Reserve. They live in our communities and work in our cities and towns. We know them as our teachers, coaches, and doctors—but when a crisis strikes or the strength of our military is needed, they leave the comfort of their civilian lives to protect our Nation. Members of the Guard and Reserve have responded to disasters at home and have served tours of duty in Iraq and Afghanistan.

Our country is grateful to all our Guardsmen and Reservists and the employers who stand behind them and their families. By providing workplace flexibility and helping the advancement of their civilian careers, employers ease the burden on those who serve and their loved ones. And we appreciate all our country's businesses that go above and beyond in small and large ways to recognize our patriots. We know that when it comes to supporting our Nation's heroes, everybody can do something—every business, every school, and every American.

The United States has a profound obligation to care for those who serve in our Armed Forces, and my Administration will keep providing unprecedented support to the members of our military. We have increased access to Federal education benefits for service members and their loved ones and worked to improve our veterans health care system. This year, in conjunction with First Lady Michelle Obama and Dr. Jill Biden's Joining Forces initiative, we launched the Veterans Employment Center, an online tool that connects veterans, transitioning service members, and their families with employers who are seeking to leverage their skills and talents. It is the first Government-wide program to bring career resources and job opportunities together in one place. My Administration will keep engaging all sectors of society to give our military communities the support they have earned.

During National Employer Support of the Guard and Reserve Week, we salute the heroes in our everyday lives. As a Nation, let us renew our commitment to serve the families who represent the best of America as well as they serve us.

NOW, THEREFORE, I, BARACK OBAMA, President of the United States of America, by virtue of the authority vested in me by the Constitution and the laws of the United States, do hereby proclaim September 21 through September 27, 2014, as National Employer Support of the Guard and Reserve Week. I call upon all Americans to join me in expressing our heartfelt thanks to the members of the National Guard and Reserve and their civilian employers. I also call on State and local officials, private organizations, and all military commanders, to observe this week with appropriate ceremonies and activities.

IN WITNESS WHEREOF, I have hereunto set my hand this nineteenth day of September, in the year of our Lord two thousand fourteen, and of the Independence of the United States of America the two hundred and thirty-ninth.

[FR Doc. 2014-22926

Filed 9-23-14; 11:15 am]

Billing code 3295-F4